DEPARTMENT OF AGRICULTURE

Forest Service

Dixie National Forest, UT; Tropic to Hatch 138kV Transmission Line Project

AGENCY: Forest Service, United States Department of Agriculture.

ACTION: Notice of intent to prepare an environmental impact statement.

SUMMARY: The Forest Supervisor of the Dixie National Forest gives notice of intent to prepare an Environmental Impact Statement to address potential effects of a proposed project by Garkane Energy Cooperative (Garkane) to construct, operate and maintain a 138 kilovolt (kV) electric transmission line requiring a Special Use Authorization, Grant of Right-of-Way, and/or Special Use Permit for a Right-of-Way. The proposed project will include the construction of a 138kV transmission line, associated substations, access roads and the removal and reclamation of a portion of the existing transmission line. The proposed action would cross lands administered by the Forest Service, Bureau of Land Management, State and private. If approved, the proposed project would require amending the Grand Staircase-Escalante National Monument Management Plan to allow a utility right-of-way in the primitive management zone adjacent to an existing utility right-of-way.

Dependant upon the final location of the transmission line alignment, the Dixie National Forest Plan may need amending to adjust or modify the scenic integrity objectives. The Dixie National Forest will serve as the lead agency. The National Park Service and the Bureau of Land Management Kanab Field Office and Grand Staircase-Escalante National Monument will participate as cooperating agencies, and each agency will issue separate decisions based on the analysis. The Utah State Institutional Trust Lands have been invited as a cooperating agency.

DATES: Comments concerning the scope of the analysis should be received within 30 days from date of publication of this notice in the Federal Register to be most useful. The Draft Environmental Impact Statement is scheduled for release in spring 2009, and the Final Environmental Impact Statement is scheduled for completion in summer 2009.

ADDRESSES: Send written comments to Ms. Susan Baughman, Dixie National Forest, USDA Forest Service, Tropic to Hatch 138kV Transmission Line Project EIS Project Leader, 1789 N. Wedgewood Lane, Cedar City, UT 84720. Phone: (435) 865-3700; Fax: (435) 865-3791; E-mail: tropic_to_hatch_transmission_line_eis_comments@fs.fed.us. E-mailed comments must be submitted in MS Word (*.doc) or rich text format (*.rtf) and should include the project name in the subject line. Written comments may also be submitted at the above address during regular business hours of 8 a.m. to 5 p.m., Monday-Friday.

FOR FURTHER INFORMATION CONTACT: Ms. Susan Baughman, Tropic to Hatch 138kV Transmission Line Project, EIS Project Leader, Dixie National Forest (contact information listed above).

SUPPLEMENTARY INFORMATION: Garkane delivers propane and electric service to more than 11,000 customers in northern Arizona and southern Utah including the project area. Growth in Garfield and Kane counties has increased electrical demand. Garkane, which owns, operates and maintains the electric delivery systems in this area, has found the existing system insufficient to meet electrical demand without the operation of temporary diesel generators. The proposed project involves the construction, operation and maintenance of a 138kV transmission line from Tropic to Hatch in Garfield County, Utah, and a new substation and expansion of the Hatch Substation to serve existing and planned electric loads in the region. Currently a 138kV transmission line provides connection from the Glen Canyon Dam to the Tropic area; however, only a 69kV transmission line provides connection between the Tropic and Hatch substations. The 69kV transmission system is Garkane's main electrical supply to the area west of Tropic and is insufficent to provide power equal to the electrical demand in that area. The existing 69kV electrical transmission system is operating at its capacity and cannot be modified to carry higher voltages due to physical limitations of the pole structures. The proposed 138kV electrical system improvement would provide a cost-effective solution to adequately address current demands and provide capacity for the foreseeable future. A special use authorization and right-of-way must be acquired or amended to allow the construction, maintenance and operation of the new transmission line. Substations would be developed on private land as part of the project.

The new transmission line will be a single 138kV circuit supported by wood pole H-frame structures approximately 60 feet tall. The proposed project involves the construction of access roads in portions of the alignment where a suitable road is not available and where development of an access road is permitted by the authorizing agency. Access roads would be used for installation of wood transmission structures, conductors, and overhead ground wires, removal of poles and conductors, and for maintenance and inspection activities. In limited areas where vehicle access is not feasible due to topographical constraints and/or agency requirements, the alignment would be accessed via helicopter, mule, horse, all-terrain vehicle, and/or foot. In order to accomplish the planned activities, Garkane will require a 100 foot-wide permanent right-of-way. In addition, temporary use permits would be needed for several 125 by 400 foot pulling and splicing locations and turning structure locations, and for approximately eight 200 by 600 foot temporary staging locations. Project construction activities and overland access along the proposed project alignment will be conducted within the proposed 100 foot-wide right-of-way and the temporary use permit areas.

The proposed 138kV transmission line would originate at a proposed East Valley Substation, located near Tropic, Utah and terminate at the existing Hatch Substation near Hatch, Utah, along U.S. Route 89 and would extend approximately 31 miles. The project would involve various private land owners as well as jurisdictions managed by the State of Utah; Dixie National Forest; and Bureau of Land Management's Kanab Field Office and Grand Staircase-Escalante National Monument. Development of the proposed action would include the removal of the existing transmission line between the Bryce Canyon Substation and Hatch Mountain Switch Station through Red Canyon. One potential alternative would parallel an existing line through Bryce Canyon National Park.

The Bureau of Land Management planning regulations (43 CFR 1600) require the preparation of planning criteria to guide the development of resource management plan amendments. Planning criteria ensure that plans are tailored to the identified issues and ensure that unnecessary data collection and analysis are avoided.

These general planning criteria will be used to develop a Grand Staircase-Escalante National Monument Management Plan amendment for the Tropic to Hatch 138kV Transmission Line Project. The planning criteria are as follows:

• The plan amendment will only consider adding one new utility right-of-way in the primitive zone adjacent to an existing utility right-of-way.

• It will be completed in compliance with the Federal Land Policy and Management Act and all other applicable laws.

• It will meet the intent of the Proclamation that established Grand Staircase-Escalante National Monument which protects objects of geological, paleontological, archaeological, biological, and historic values within the Monument.

Pursuant to Section 102(2)(c) of the National Environmental Policy Act and 42 U.S.C. 4321 et seq., the Forest Service, Bureau of Land Management and National Park Service will be directing a third-party contractor in the preparation of the Environmental Impact Statement on the impacts of the proposed action.

Purpose and Need for Action

Growth in Garfield and Kane counties has increased electrical demand. The growth in this area has resulted in a 66 percent increase in the electrical demand during the past five years. This has caused an overloading of the transmission lines and a decrease in the reliability of the electrical system. Garkane, which owns, operates and maintains the electric delivery systems in this area, has found the existing system insufficient to meet electrical demand without operation of temporary diesel generators.

Currently a 138kV transmission line provides connection from the Glen Canyon Dam to the Tropic area, however only a 69kV transmission line provides connection between the Tropic and Hatch substations. The 69kV transmission system is Garkane's main electrical supply to the area west of Tropic and is insufficient to provide power equal to the electrical demand in that area. The existing 69kV electrical transmission system is operating at its capacity and cannot be modified to carry higher voltages due to physical limitations of the pole structures. The proposed project is needed to bring this available energy from the Tropic area to the Hatch area where the electric demands are increasing. The proposed electrical system improvement will provide a cost-effective solution to adequately address both current demands and provide capacity for the foreseeable future. A right-of-way must be acquired or amended to allow the construction, maintenance and operation of the new transmission line. Substations will be developed on private land as part of the project. Special use authorizations and rights-of-way are needed to allow Garkane to upgrade the current electrical service from Tropic to Hatch, Garfield County, Utah to meet current and future electrical demands.

Proposed Action

The Forest Supervisor of the Dixie National Forest and the Utah State Director of the Bureau of Land Management propose to conduct analysis and decide whether to grant the necessary Special Use Authorization and Right-of-Way permits to Garkane to construct, operate and maintain a 138kV transmission line and all associated features from Tropic to Hatch in Garfield County, Utah. The proposed project would require amending the Grand Staircase-Escalante National Monument Management Plan to allow a utility right-of-way in the primitive zone adjacent to an existing utility right-of-way. Dependant upon the final location of the transmission line alignment, the Dixie National Forest Plan may need to be amended to adjust or modify the scenic integrity objectives.

The proposed corridor originates on private land at the proposed East Valley Substation and extends northeast following East Valley Road to an existing Rocky Mountain Power 230kV transmission line corridor. The project route then parallels the south side of the Rocky Mountain Power 230kV Transmission Line to the northwest through Cedar Fork Canyon. As the project route exits the Canyon on the Paunsaugunt Plateau, it diverges from the Rocky Mountain Power 230kV Transmission Line corridor and extends east across John's Valley for approximately seven miles. At this point, the corridor turns south for approximately two miles crossing State Route 12 near the Bryce Canyon Pines Motel. The route then extends west through Johnson Bench until it intersects Forest Service Road 1150, and then parallels Forest Service Road 1150 to the head of the Hillsdale Canyon. The project route continues through a designated utility corridor west down the canyon to Forest Road 223 and turns north for approximately 0.5 mile. At this point, the project route leaves the road and extends due west across Long Valley paralleling section lines, and eventually crossing U.S. Route 89 where it then turns to the southwest for approximately two miles to the Hatch Substation. The proposed line would cross approximately 15 miles of National Forest, 3.67 miles of Grand Staircase-Escalante National Monument, 3.53 miles of Bureau of Land Management Kanab Field Office, 7.27 miles of State, and 1.76 miles of private lands.

Legal description for the project route corridor is as follows: Sections 27-29, 31, 32, 34, and 35, T35S, R3W; sections 34-36, T35S, R4W; sections 7, 17, 18, 20, 28, 29, 32, and 33, T36S, R2W; sections 2, 11, and 12, T36S, R3W; sections 3, 4, and 7-9, T36S, R4W; sections 8, 9, and 11-16, T36S, R4.5W; and sections 11-16, and 21, T36S, R5W.

The new transmission line will be a single 138kV circuit supported by wood pole H-frame structures approximately 60 feet tall. The proposed project involves the construction of access roads in portions of the alignment where a suitable road is not available and where development of an access road is permitted by the authorizing agency. Access roads would be used for installation of wood transmission structures, conductors, overhead ground wires, removal of poles and conductors, and for maintenance and inspection activities. In limited areas where vehicle access is not feasible due to topographical constraints and/or agency requirements, the alignment would be accessed via helicopter, mule, horse, all-terrain vehicle, and/or foot. In order to accomplish the planned activities, Garkane will require a 100 foot-wide permanent right-of-way. In addition, temporary use permits will be needed for 125 by 400 foot areas at pulling and splicing locations at turning structures and for approximately eight 200 by 600 feet areas for temporary staging activities. Project construction activities and overland access along the proposed project alignment will be conducted within the proposed 100 foot-wide right-of-way and temporary use permit areas.

Development of the proposed action would include the removal and reclamation of the existing transmission line between the Bryce Canyon Substation and the Hatch Mountain Switch Station through Red Canyon.

Possible Alternatives

All alternatives studied in detail must fall within the scope of the purpose and need for action and will generally tier to and comply with the Dixie National Forest Land and Resource Management Plan (1986), Grand Staircase Escalante National Mounment Management Plan (1999), Cedar, Beaver, Garfield, Antimony Resource Management Plan (1986), and if necessary the Bryce Canyon National Park General Management Plan (1987) and National Park Service Management Policies (2006). Law requires evaluation of a “no-action alternative.”

A possible alternative would be to build the transmission line roughly parallel to the existing 69kV transmission line corridor. The current 69kV line would need to remain in place until such time as the upgraded line is energized. This alternative would originate at the proposed East Valley Substation and extend generally west though Tropic, Utah crossing State Route 12, continuing approximately three miles through Bryce Canyon National Park with 1.2 miles of new alignment onto the Paunsaugunt Plateau to the Bryce Substation near the Ruby's Inn area. The route would then parallel the existing line across the Paunsaugunt Plateau in a northwest direction to Red Canyon where it would parallel the existing line through Red Canyon into Long Valley, cross U.S. Route 89 to the Hatch Mountain Switch Station. From the switch station, the route would parallel the existing line south to the Hatch Substation. This alternative would remove and reclaim the portion of the existing 69kV line between the Tropic Substation and Hatch Mountain Switch Station. The Tropic and Bryce substations would need to be expanded, and probably relocated. In limited areas where vehicle access is not feasible due to topographical constraints and/or agency requirements, the alignment would be accessed via helicopter, mule, horse, all-terrain vehicle, and/or foot.

The legal description for the alternative corridor is as follows: Sections 31 and 32, T35S, R4W; sections 26-28, 30, 35, and 36, T35S, R4.5W; sections 25-27, 33, and 34, T35S, R5W; sections 31 and 32, T36S, R2W; sections 16-18, 21-23, 25, 26, and 36, T36S, R3W; sections 3-5, and 10-13, T36S, R4W; and sections 4, 9, 16, and 21, T36S, R5W. Additional alternatives may be developed based on scoping comments.

Lead and Cooperating Agencies

The Forest Service is the lead agency. The Bureau of Land Management and National Park Service will participate as cooperating agencies. The Utah State Institutional Trust Lands have been invited to be a cooperating agency.

Responsible Officials

Robert G. MacWhorter, Forest Supervisor, Dixie National Forest, 1789 N. Wedgewood Lane, Cedar City, Utah 84720.

Selma Sierra, Utah BLM State Director, P.O. Box 45155, Salt Lake City, Utah 84145-0155.

Mike Snyder, Regional Director, National Park Service Regional Office, 12795 West Alameda Pkwy, P.O. Box 25287, Lakewood, Colorado 80225.

Nature of Decisions To Be Made

The responsible officials will decide whether to adopt and implement the proposed action, an alternative to the proposed action, or take no action.

The Forest Supervisor, Dixie National Forest will decide whether to issue a Special Use Authorization for the construction, operation and maintenance of a 138kV transmission line from Tropic to Hatch, Utah. The Forest Service may propose to amend the Forest Plan to adjust the scenic integrity objective if necessary depending on route alignment and impact analysis. The Bureau of Land Management State Director will decide whether approve an amendment to the Grand Staircase-Escalante National Monument Management Plan necessary to issue a right-of-way for the construction operation and maintenance of a 138kV transmission line from Tropic to Hatch, Utah.

The National Park Service Regional Director would decide whether to issue a Special Use Permit for a right-of-way for the construction, operation and maintenance of a 138kV transmission line through Bryce Canyon National Park if an alternative through the park is selected.

Scoping Process

The first formal opportunity to comment on the Tropic to Hatch 138kV Transmission Line Project is during the scoping process (40 CFR 1501.7), which begins with the issuance of this Notice of Intent. Mail comments to: Ms. Susan Baughman, Dixie National Forest, 1789 N. Wedgewood Lane, Cedar City, Utah 84720. E-mail comments can be sent to: tropic_to_hatch_transmission_line_eis_comment@fs.fed.us.

Before including your address, phone number, e-mail address, or other personal identifying information in your comment, you should be aware that your entire comment, including your personal identifying information, may be made publicly available at any time. While you can ask us in your comment to withhold your personal identifying information from public review, we cannot guarantee that we will be able to do so.

The Forest Service is inviting Federal, State and local agencies, the public, and other interested parties to provide comments, suggestions and input regarding the nature and scope of the environmental, social and economic issues, and possible alternatives related to the Tropic to Hatch 138kV Transmission Line Project. The scoping process for this Environmental Impact Statement will include two public meetings for interested agencies and the public to submit written concerns and issues they believe should be addressed. Comments concerning the scope of the analysis should be received within 30 days from date of publication of this notice in the Federal Register to be most useful.

A series of public opportunities are scheduled to describe the proposal and to provide an opportunity for public input. Two scoping meetings are planned:

March 12, 2008: 6 p.m. to 8 p.m., Panquitch Library, 25 South 200 East, Panguitch, Utah 84759.

March 13, 2008: 6 p.m. to 8 p.m., Cannonville Visitor Center, 10 Center Street, Cannonville, Utah 84718.

Written comments will be accepted at these meetings. The Forest Service will work with tribal governments to address issues that would significantly or uniquely affect them.

Preliminary Issues

Issues that may be analyzed in all alternatives include: Effects on flora and fauna (e.g., threatened and endangered species, sensitive species, and management indicator species); effects on scenic and visual resources; effects on cultural and paleontological resources; effects on upland vegetation; effects on Forest Service inventoried roadless areas and Grand Staircase-Escalante National Monument primitive management zones; and effects on noxious weeds and invasive species. Specific issues will be developed through review of public comments and internal review.

Permits or Licenses Required

It is assumed applications will be filed with affected agencies as necessary. Currently, alternative corridors cross lands managed by the Forest Service, National Park Service, and Grand Staircase-Escalante National Monument. The entitlements required from each Federal agency are:

• Forest Service—Special Use Authorization

• Bureau of Land Management—Grant of Right-of-Way

• Grand Staircase-Escalante National Monument—Grant of Right-of-Way

• National Park Service—Special Use Permit for a Right-of-Way, if applicable.

Comment Requested

This Notice of Intent initiates the scoping process which guides the development of the environmental impact statement. Consequently site-specific comments or concerns that are tied directly to the proposed action are the most important types of information needed for this Environmental Impact Statement.

Early Notice of Importance of Public Participation in Subsequent Environmental Review

A draft environmental impact statement will be prepared for comment. The comment period on the draft environmental impact statement will be at least 45 days from the date the Environmental Protection Agency publishes the Notice of Availability in the Federal Register. If a Grand Staircase-Escalante National Monument Management Plan amendment is required, the comment period would be 90 days.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 [1978]. Also, environmental objections that could be raised at the draft environmental impact statement stage, but that are not raised until after completion of the final environmental impact statement may be waived or dismissed by the courts. City of Angoon v. Hodel, 803 F.2d 1016, 1022 [9th Cir. 1986] and Wisconsin Heritages, Inc. v. Harris, 490 F. Supp. 1334, 1338 [E.D. Wis. 1980]. Because of these court rulings, it is very important that those interested in this proposed action participate by the close of the 45 day comment period so that substantive comments and objections are made available to the Forest Service at a time when it can meaningfully consider them and respond to them in the final Environmental Impact Statement.

To assist the Forest Service in identifying and considering issues and concerns on the proposed action, comments on the Draft Environmental Impact Statement should be as specific as possible. It is also helpful if comments refer to specific pages or chapters of the draft statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: February 14, 2008.
Robert G. MacWhorter,
Forest Supervisor.

[FR Doc. E8-3194 Filed 2-20-08; 8:45 am]

BILLING CODE 3410-11-P